DEPARTMENT OF THE TREASURY

Financial Crimes Enforcement Network

Proposed Renewal Without Change; Comment Request; Nine Bank Secrecy Act Recordkeeping Requirements

ACTION: Notice and request for comments.

SUMMARY: As part of our continuing effort to reduce paperwork and respondent burden, we invite comment on a proposed renewal, without change, to recordkeeping requirements found in existing regulations requiring financial institutions to keep records pertaining to Bank Secrecy Act (BSA) reportable activities. This request for comments is being made pursuant to the Paperwork Reduction Act of 1995, Public Law 104-13, 44 U.S.C. 3506(c)(2)(A).

DATES: Written comments are welcome and must be received on or before August 8, 2011.

ADDRESSES: Written comments should be submitted to: Financial Crimes Enforcement Network, P.O. Box 39, Vienna, VA 22183, Attention: BSA Recordkeeping Requirements Comments. Comments also may be submitted by electronic mail to the following Internet address: regcomments@fincen.gov, again with a caption, in the body of the text, “BSA Recordkeeping Requirements Comments.”

FOR FURTHER INFORMATION CONTACT: Financial Crimes Enforcement Network, Regulatory Policy and Programs Division at (800) 949-2732, option 6.

SUPPLEMENTARY INFORMATION:

Abstract: The Director of the Financial Crimes Enforcement Network (FinCEN) is the delegated administrator of the BSA. The BSA authorizes the Director to issue regulations to require all financial institutions defined as such in the BSA to maintain or file certain reports or records that have been determined to have a high degree of usefulness in criminal, tax, or regulatory investigations or proceedings, or in the conduct of intelligence or counter-intelligence activities, including analysis, to protect against international terrorism, and to implement anti-money laundering programs and compliance procedures.¹

¹ Public Law 91-508, as amended and codified at 12 U.S.C. 1829b, 12 U.S.C. 1951-1959 and 31 U.S.C. 5311-5332. Language expanding the scope of the BSA to intelligence or counter-intelligence activities to protect against international terrorism was added by section 358 of the Uniting and Strengthening America by Providing Appropriate Tools Required to Intercept and Obstruct Terrorism (USA PATRIOT) Act of 2001, Pubic Law 107-56.

Regulations implementing section 5318(h)(1) of the BSA are found in part at 31 CFR chapter X. In general, the regulations require financial institutions, as defined in 31 U.S.C. 5312(a)(2) and 31 CFR 1010.100 to maintain financial records of BSA covered transactions.

1. Title: Special rules for casinos 31 CFR 1021.210(b), 31 CFR 1021.100(a)-(e)(Old Ref. 31 CFR 103.64), and 31 CFR 1010.430 (Old Ref. 31 CFR 103.38).

OMB Number: 1506-0051.

Current Action: There is no change to the existing regulation.

Type of Review: Extension without change of a currently approved information collection.

Affected Public: Businesses and other for-profit institutions.

Burden: The estimated number of recordkeepers is 925. The estimated annual recordkeeping burden per recordkeeper is 100 hours, for a total estimated annual recordkeeping burden of 92,500 hours.

2. Title: Additional records to be made and retained by currency dealers or exchangers (31 CFR 1022.410 (Old Ref. 31 CFR 103.37) and 31 CFR 1010.430 (Old Ref. 31 CFR 103.38) .

OMB Number: 1506-0052.

Current Action: There is no change to the existing regulation.

Type of Review: Extension without change of a currently approved information collection.

Affected Public: Businesses and other for-profit institutions.

Burden: The estimated number of recordkeepers is 2,300. The estimated annual recordkeeping burden per recordkeeper is 16 hours, for a total estimated annual recordkeeping burden of 368,000 hours.

3. Title: Additional records to be made and retained by brokers or dealers in securities (31 CFR 1023.410 (Old Ref. 31 CFR 103.35) and 31 CFR 1010.410 (Old Ref. 103.38).

OMB Number: 1506-0053.

Current Action: There is no change to the existing regulation.

Type of Review: Extension without change of a currently approved information collection.

Affected Public: Businesses and other for-profit institutions.

Burden: The estimated number of recordkeepers is 8,300. The estimated annual recordkeeping burden per recordkeeper is 100 hours, for a total estimated annual recordkeeping burden of 830,000 hours.

4. Title: Additional records to be made and retained by casinos (31 CFR 1021.410 (Old Ref. 103.36) (except 31 CFR 1021.410(b)(10)) (Old Ref. except 103.36(b)(10)), and 31 CFR 1010.430 (Old Ref. 31 CFR 103.38) .

OMB Number: 1506-0054.

Current Action: There is no change to the existing regulation.

Type of Review: Extension without change of a currently approved information collection.

Affected Public: Businesses and other for-profit institutions.

The burden for the action will be as follows:

31 CFR 1021.410(a)&(b)(1)-(8). The estimated number of recordkeepers is 480. The estimated annual recordkeeping burden per recordkeeper is 100 hours, for a total estimated annual recordkeeping burden of 48,000.

31 CFR 1021.410(b)(9). The estimated number of recordkeepers is 480. The estimated annual recordkeeping burden per recordkeeper is 7.5 hours, for a total estimated annual recordkeeping burden of 3,600 hours.

31 CFR 1021.410(b)(11). The estimated number of recordkeepers is 62. The estimated number of transactions is 215,000 annually and the total estimated annual recordkeeping burden is 686 hours.

31 CFR 1021.410(c). The estimated number of recordkeepers is 480. The estimated annual recordkeeping burden per recordkeeper is 4 hours, for a total estimated annual recordkeeping burden of 1,920 hours. For a total estimated annual recordkeeping burden of 54,206 hours.

5. Title: Reports of transactions with foreign financial agencies 31 CFR 1010.360 (Old Ref. 31 CFR 103.25).²

² Treasury may, by regulation, require specified financial institutions to report transactions by persons with designated foreign financial agencies.

OMB Number: 1506-0055.

Current Action: There is no change to the existing regulation.

Type of Review: Extension without change of a currently approved information collection.

Affected Public: Businesses or for-profit institutions, and non-profit institutions.

Burden: The estimated number of respondents per year is 1. The estimated number of responses is 1, with a reporting burden of 1 hour per respondent, for a total annual recordkeeping burden of 1 hour.³

³ Should FinCEN issue regulations under this authority, it will provide a burden estimate specific to those regulations.

6. Title: Reports of certain domestic coin and currency transactions. 31 CFR 1010.370 (Old Ref. 31 CFR 103.26), 31 CFR 1010.410(d) (Old Ref. 31 CFR 103.33(d).

OMB Number: 1506-0056.

Current Action: There is no change to the existing regulation.

Type of Review: Extension without change of a currently approved information collection.

Affected Public: Businesses or for-profit institutions, and non-profit institutions.

Burden: The estimated number of respondents per year is 3,200. The estimated number of responses is 17,000, with a reporting burden of 19 minutes per response and a recordkeeping burden of 5 minutes per response. Total estimated annual recordkeeping burden is 6,800 hours.⁴

⁴ Although the burden is stated as an annual burden in accordance with the Paperwork Reduction Act, the estimated annual burden is not intended to indicate that there is a geographic targeting order in effect throughout a year or in each year.

7. Title: Purchases of bank checks and drafts, cashier's checks, money orders and traveler's checks. 31 CFR 1010.415 (Old Ref. 31 CFR 103.29), 31 CFR 1010.430 (Old Ref. 31 CFR 103.38).

OMB Number: 1506-0057.

Current Action: There is no change to the existing regulation.

Type of Review: Extension without change of a currently approved information collection.

Affected Public: Businesses or for-profit institutions, and non-profit institutions.

Burden: The estimated number of recordkeepers is 60,900. The average burden per recordkeeper is 7.5 hours, for a total estimated annual recordkeeping burden of 456,750 hours.

8. Title: Records to be made and retained by financial institutions (31 CFR 1010.410 (Old Ref. 31 CFR 103.33) (except 1010.410(d) (Old Ref. 31 CFR 103.33(d)) and 31 CFR 1010.430, (Old Ref. 31 CFR 103.38).

OMB Number: 1506-0058.

Current Action: There is no change to the existing regulation.

Type of Review: Extension without change of a currently approved information collection.

Affected Public: Businesses or for-profit institutions, and non-profit institutions.

The burden for this action will be as follows:

31 CFR 1010.410(a)-(c). The estimated number of recordkeepers is 22,900. The estimated annual recordkeeping burden per recordkeeper is 50 hours, for a total estimated annual recordkeeping burden of 1,145,000 hours.

31 CFR 1010.410(e)-(f). The estimated number of recordkeepers is 35,500. The estimated annual recordkeeping burden per recordkeeper is 16 hours, for a total estimated annual recordkeeping burden of 568,000.

31 CFR 1010.410(g). The estimated number of recordkeepers is 35,500. The estimated annual recordkeeping burden per recordkeeper is 12 hours, for a total estimated annual recordkeeping burden of 426,000, for a total of 2,139,000 hours.

9. Title: Additional records to be made and retained by banks (31 CFR 1020.410 (Old Ref. 31 CFR 103.34) and 31 CFR 1010.430 (Old Ref. 31 CFR 103.38).

OMB Number: 1506-0059.

Current Action: There is no change to the existing regulation.

Type of Review: Extension without change of a currently approved information collection.

Affected Public: Businesses or for-profit institutions, and non-profit institutions.

Burden: The estimated number of recordkeepers is 22,900. The estimated annual recordkeeping burden per recordkeeper is 100 hours for a total annual recordkeeping burden of 2,290,000 hours.

An agency may not conduct or sponsor, and a person is not required to respond to, a collection of information unless it displays a valid control number assigned by the Office of Management and Budget (OMB). Records required to be retained under the BSA must be retained for five years. Generally, information collected pursuant to the BSA is confidential but may be shared as provided by law with regulatory and law enforcement authorities.

Request for Comments

Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected: (d) ways to minimize the burden of the collection of information on respondents, including through the use of automated collection techniques or other forms of information technology; and (e) estimates of capital or start-up costs and costs of operation, maintenance and purchase of services to provide information.

Dated: May 31, 2011.
James H. Freis, Jr.,
Director, Financial Crimes Enforcement Network.

[FR Doc. 2011-14068 Filed 6-7-11; 8:45 am]

BILLING CODE 4810-02-P